DEPARTMENT OF HEALTH AND HUMAN SERVICES

Health Resources and Service Administration

Meeting of the Advisory Committee on Training in Primary Care and Dentistry

AGENCY: Health Resources and Service Administration (HRSA), Department of Health and Human Services (HHS).

ACTION: Notice.

SUMMARY: In accordance with the Federal Advisory Committee Act, this notice announces that the Advisory Committee on Training in Primary Care and Dentistry (ACTPCMD) has scheduled a public meeting. Information about ACTPCMD and the agenda for this meeting can be found on the ACTPCMD website at: https://www.hrsa.gov/advisory-committees/primarycare-dentist/index.html.

DATES: October 31, 2019, 10:00 a.m.-5:00 p.m. Eastern Time.

ADDRESSES: This meeting will be held by webinar.

• Webinar link: https://hrsa.connectsolutions.com/ACTPCMD.

• Conference Call in number: (888) 455-0640; Passcode: HRSA COUNCIL (voice response).

FOR FURTHER INFORMATION CONTACT: Kennita Carter, MD, Senior Advisor and Designated Federal Official, Division of Medicine and Dentistry, HRSA, 5600 Fishers Lane, Rockville, Maryland 20857; phone (301) 945-3505; or email BHWACTPCMD@hrsa.gov.

SUPPLEMENTARY INFORMATION: ACTPCMD provides advice and recommendations to the Secretary of HHS (Secretary) on policy, program development, and other matters of significance concerning the activities under section 747 of Title VII of the Public Health Service (PHS) Act, as it existed upon the enactment of Section 749 of the PHS Act in 1998.

At this meeting, ACTPCMD will discuss matters concerning innovations in training in primary care medicine and dentistry as well as ACTPCMD's upcoming report and recommendations. Agenda items are subject to change as priorities dictate. Refer to the ACTPCMD website for any updated information concerning the meeting. An agenda will be posted on the website at least 14 calendar days before the meeting. Members of the public will have the opportunity to provide comments. Public participants may submit written statements in advance of the scheduled meeting. Oral comments will be honored in the order they are requested and may be limited as time allows. Requests to submit a written statement or make oral comments to ACTPCMD should be sent to Kennita Carter using the contact information above at least three business days prior to the meeting.

Individuals who plan to attend and need special assistance or another reasonable accommodation should notify Kennita Carter at the address and phone number listed above at least 10 business days before the meeting.

Maria G. Button,
Director, Division of the Executive Secretariat.

[FR Doc. 2019-19035 Filed 9-3-19; 8:45 am]

BILLING CODE 4165-15-P